DEPARTMENT OF AGRICULTURE

Forest Service

Shoshone National Forest Travel Management; Shoshone National Forest, Wyoming; Withdrawal

AGENCY: Forest Service, Agriculture (USDA).

ACTION: Notice; withdrawal.

SUMMARY: The Forest Service is withdrawing its notice of intent to prepare an environmental impact statement for the Shoshone National Forest Travel Management project on the Shoshone National Forest. The Forest is withdrawing its Notice of Intent in order to compile and review information concerning access and travel management needs and may pursue further planning and analysis at a later time.

FOR FURTHER INFORMATION CONTACT: Questions concerning this notice should be directed to Shoshone National Forest Supervisor Ken Coffin at kenneth.coffin@usda.gov or 307-578-5187.

Individuals who use telecommunications devices for the hearing impaired may call 711 to reach the Telecommunications Relay Service, 24 hours a day, every day of the year, including holidays.

SUPPLEMENTARY INFORMATION: The Forest Service published a notice of intent to prepare an environmental impact statement in the Federal Register on May 27, 2016, 81 FR 33655. On June 29, 2016, FR Doc. 2016-15394 a notice to extend the public scoping period was also published.

Beattra Wilson,
Associate Deputy Chief State, Private, and Tribal Forestry, National Forest System.

[FR Doc. 2025-23386 Filed 12-18-25; 8:45 am]

BILLING CODE 3411-15-P